ENVIRONMENTAL PROTECTION AGENCY

[ER-FRL-6684-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (71 FR 17845).

DRAFT EISs

EIS No. 20060045, ERP No. D-AFS-L65504-ID, Payette National Forest Travel Management Plan, Designate a System of Road, Trails and Areas Open to Motorized and Non-Motorized Use, Implementation, Adam, Washington, Idaho, Valley Counties, ID

Summary: EPA expressed environmental concern about impacts to the public water supply, impaired streams and aquatic habitat. Rating EC1.

EIS No. 20060401, ERP No. D-FRC-K05062-CA, Oroville Facilities Project, Issuing an New Federal License to Continue Hydroelectric Power (FERC No. 2100), Feather River, Sierra Nevada, Butte County, CA

Summary: EPA expressed environmental concerns about potential water quality impacts and the method of analysis used to assess impacts of the no-action alternative, and requested additional information regarding consultation with tribal governments and the analysis of cumulative impacts. Rating EC2.

EIS No. 20060406, ERP No. D-BLM-L65524-PA, Bay Resource Management Plan, Implementation, Located within the Bristol Bay and Goodnews Bay Areas, AK

Summary: EPA expressed environmental concerns about the potential for adverse impacts regarding the limited number of special designations in the preferred alternative; effectiveness of proposed Required Operating Procedures (ROPs) and Stipulations, especially in regard to future management of lands open to mineral, oil, and gas exploration and development. Rating EC2.

EIS No. 20060449, ERP No. D-AFS-L65526-ID, Salmon-Challis National Forest, Lost River/Lemhi Grazing Allotments, To Improve Range Condition and Trend, Lost River and Challis Ranger Districts, Salmon-Challis National Forest, Butte, Clark, Custer and Lemhi Counties, ID

Summary: EPA expressed environmental concerns about the potential for adverse impacts to streams that are currently 303(d) listed for temperature, sediment and other water quality criteria. Rating EC2.

EIS No. 20060486, ERP No. D-NPS-D65038-MD, White-Tailed Deer Management Plan, Implementation, Catoctin Mountain Park, Frederick and Washington Counties, MD

Summary: EPA does not object to the proposed action. Rating LO.

EIS No. 20060274, ERP No. DD-AFS-L65155-00, Northern Spotted Owl Management Plan, Removal or the Modification to the Survey and Manage Mitigation Measures, Standards and Guidelines (to the Northwest Forest Plan) New Information to Address Three Deficiencies in Final Supplemental EIS (2004), Northwest Forest Plan, OR, WA, and CA

Summary: The analysis in EIS provides adequate support for the decision to add individual species to the agencies' Special Status Species Program (SSSP) lists, and provides important information for developing future land management and species conservation decisions. EPA encourages the agencies to fully support and regularly update the SSSP programs, and consider the importance of the current network of late successional forests in late-successional species' persistence and viability. Rating LO.

EIS No. 20060307, ERP No. DS-FHW-L40222-WA, WA-99 Alaskan Way Viaduct and Seawall Replacement Project, Additional Information and Evaluation of Construction Plan, Provide Transportation Facility and Seawall with Improved Earthquake Resistence, U.S. Army COE Section 10 and 404 Permits, Seattle, WA

Summary: EPA expressed environmental concerns about impacts to air quality and human health during construction, and recommends the development of an air quality construction mitigation plan. Rating EC2.

FINAL EISs

EIS No. 20060451, ERP No. F-CGD-B03015-MA, Neptune Liquefied Natural Gas (LNG), Construction and Operation, Deepwater Port License Application, (Docket Number USCG-2004-22611) Massachusetts Bay, Gloucester and Boston, MA

Summary: EPA does not object to the proposed action, but offered comments that can be addressed in the Record of Decision and the remainder of the licensing process.

EIS No. 20060495, ERP No. F-FHW-L40226-WA, WA-28

Eastside Corridor Project, Proposal to Improve WA-28 (Sunset Highway) Corridor from WA-2-97 (Ocdabashian Bridge) to 9th Street NE. in East Wenatcheee, City of East Wenatchee, Douglas County, WA

Summary: EPA continues to express environmental concerns about the preferred alternative's (3B) impacts on air quality and wetlands.

EIS No. 20060515, ERP No. F-FHW-C40161-NY, NY-17 Parksville/SH-5223, Liberty-County Line, Part 1 Construction and Reconstruction to Interstate Standards, Funding and U.S. Army COE Permit Issuance, Town of Liberty, Sullivan County, NY

Summary: EPA does not object to the preferred alternative.

EIS No. 20060531, ERP No. F-FRC-L05236-0R, Clackamas River Hydroelectric Project, Application for Relicensing of an Existing 173 megawatt(MS) Project, (FERC No. 2195-011) Clackamas River Basin, Clackamas County, OR

Summary: EPA continues to express environmental concerns about temperature and dissolved oxygen impacts and recommends that FERC work with ODEQ to assure water quality standards will be met.

EIS No. 20060545, ERP No. F-FTA-G40191-TX, Southeast Corridor Project, Proposed Fixed-Guideway Transit System, Funding, Metropolitan Transit Authority (METRO) of Harris County, Houston, Harris County, TX

Summary: EPA does not object to the proposed project.

EIS No. 20070002, ERP No. F-FHW-F40420-MN, I-94/TH-10 Interregional Connection from St. Cloud to Becker Transportation Improvements, Funding and U.S. Army COE Section 404 Permit, Sherurne, Stearns, and Wright Counties, MN

Summary: EPA continues to have environmental concerns about impacts to water quality, wetlands, wildlife and wildlife habitat, and floodplains as well as potential cumulative impacts to the Mississippi Riverway.

EIS No. 20070005, ERP No. F-IBR-K39082-AZ, Welton-Mohawk Title Transfer Project, Transfer of the Facilities, Works, and Lands of the Welton Mohawk Division of the Gila Project, Welton-Mohawk Irrigation and Drainage District, Yuma County, AZ

Summary: No formal comment letter was sent to the preparing agency.

EIS No. 20070009, ERP No. F-AFS-K65317-CA, Antelope-Pardee 500kV Transmission Project, Construct, Operate and Maintain a New 25.6 mile 500kV Transmission Line, Right-of-Way Permit and Special Use Authorization, Angeles National Forest, Los Angeles County, CA

Summary: No formal comment letter was sent to the preparing agency.

Dated: February 12, 2007.
Robert W. Hargrove,
Director, NEPA Compliance Division, Office of Federal Activities.

[FR Doc. E7-2734 Filed 2-15-07; 8:45 am]

BILLING CODE 6560-50-P